DEPARTMENT OF THE INTERIOR

Bureau of Land Management

[LLCOS00000-L12200000.DF0000-21X]

Notice of Public Meetings, Western Oregon Resource Advisory Council

AGENCY: Bureau of Land Management, Interior.

ACTION: Notice of public meetings.

SUMMARY: In accordance with the Federal Land Policy and Management Act and the Federal Advisory Committee Act of 1972, the U.S. Department of the Interior, Bureau of Land Management (BLM) Western Oregon Resource Advisory Council (RAC) will meet as follows.

DATES: The Western Oregon RAC has scheduled its meetings for May 17, 19, 21, 2021; and June 24-25, 2021. Each meeting will begin at 9 a.m. and adjourn at approximately 4 p.m.

ADDRESSES: The meetings will be held virtually on the Zoom platform. Those wishing to participate in the Zoom meetings can contact the RAC coordinator, Kyle Sullivan, for the link and call-in number.

FOR FURTHER INFORMATION CONTACT: Kyle Sullivan, Public Affairs Specialist, Medford District, 3040 Biddle Road, Medford, OR 97504; phone: (541) 618-2340; email: ksullivan@blm.gov. Persons who use a telecommunications device for the deaf (TDD) may call the Federal Relay Service (FRS) at 1-800-877-8339 to contact Mr. Sullivan during normal business hours. The FRS is available 24 hours a day, 7 days a week, to leave a message or question. You will receive a reply during normal business hours.

SUPPLEMENTARY INFORMATION: The 15-member Western Oregon RAC advises the Secretary of the Interior, through the BLM, on a variety of public land issues across public lands in Western Oregon, including the Coos Bay, Medford, Northwest Oregon, and Roseburg Districts and part of the Lakeview District. Topics of discussion for these meetings include Secure Rural Schools Title II funding, recreation, recreation fee proposals, fire management, land use planning, invasive species management, timber management, travel management, wilderness, cultural resource management, and other issues as appropriate. The May meeting will focus on the review and recommendation of projects proposed for funding under the Title II of the Secure Rural Schools legislation. At the June meeting, the Northwest Oregon and Roseburg districts will be seeking RAC recommendations for new recreation fee collections and increases to existing recreation fees as required by the Federal Lands Recreation Enhancement Act (FLREA) 2004, Public Law 108-447 Section 804. The Roseburg District will present business plans to the RAC for recommendations on three recreation sites, and the Northwest Oregon District will present business plans for 21 sites.

The meetings are open to the public, and a public comment period will be held at the end of each meeting day. Depending on the number of persons wishing to comment and the time available, time allotted for individual oral comments may be limited. Written comments may be submitted in advance of the meeting to the BLM address (see FOR FURTHER INFORMATION CONTACT) or via email to ksullivan@blm.gov. Please include “RAC Comment” in your submission.

Before including your address, phone number, email address, or other personal identifying information in your comment, you should be aware that your entire comment—including your personal identifying information—may be made publicly available at any time. While you can ask us in your comment to withhold your personal identifying information from public review, we cannot guarantee that we will be able to do so.

Detailed meeting minutes for the RAC meetings will be maintained in the Medford District Office and will be available for public inspection and reproduction during regular business hours within 30 days following the meeting. Previous minutes, membership information, and upcoming agendas are available at: https://www.blm.gov/get-involved/resource-advisory-council/near-you/oregon-washington/western-oregon-rac.

(Authority: 43 CFR 1784.4-2)

Elizabeth R. Burghard,
Designated Federal Offical.

[FR Doc. 2021-07264 Filed 4-8-21; 8:45 am]

BILLING CODE 4310-JB-P